NUCLEAR REGULATORY COMMISSION

Advisory Committee on Reactor Safeguards (ACRS); Subcommittee Meeting on Power Uprates (Susquehanna); Notice of Meeting

The ACRS Subcommittee on Power Uprates will hold a meeting on October 9-10, 2007, at 11545 Rockville Pike, Rockville, Maryland, Room T-2B3.

The entire meeting will be open to public attendance, with the exception of portions that may be closed to discuss proprietary information pursuant to 5 U.S.C. 552b(c)4 for presentations covering information that is proprietary to PPL Susquehanna LLC or its contractors such as General Electric, AREVA and Continuum Dynamics, Inc.

The agenda for the subject meeting shall be as follows:

Tuesday, October 9, 2007—8:30 a.m. until the conclusion of business.

Wednesday, October 10, 2007—8:30 a.m. until the conclusion of business.

The Subcommittee will discuss the Susquehanna Steam Electric Station Units 1 and 2 extended power uprate application. The Subcommittee will hear presentations by and hold discussions with representatives of the NRC staff, the PPL Susquehanna LLC (the licensee, PPL), their contractors (General Electric, AREVA and Continuum Dynamics) and other interested persons regarding this matter. The Subcommittee will gather information, analyze relevant issues and facts, and formulate proposed positions and actions, as appropriate, for deliberation by the full Committee.

Members of the public desiring to provide oral statements and/or written comments should notify the Designated Federal Officer, Ms. Zena Abdullahi (Telephone: 301-415-8716) 5 days prior to the meeting, if possible, so that appropriate arrangements can be made. Electronic recordings will be permitted only during those portions of the meeting that are open to the public.

Further information regarding this meeting can be obtained by contacting the Designated Federal Official between 8:45 a.m. and 5:30 p.m. (ET). Persons planning to attend this meeting are urged to contact the above named individual at least two working days prior to the meeting to be advised of any potential changes to the agenda.

Dated: September 19, 2007.
Cayetano Santos,
Chief, Reactor Safety Branch, ACRS.

[FR Doc. E7-18980 Filed 9-25-07; 8:45 am]

BILLING CODE 7590-01-P